DEPARTMENT OF DEFENSE

Office of the Secretary of Defense

Establishment of Department of Defense Federal Advisory Committees

AGENCY: DoD.

ACTION: Establishment of Federal Advisory Committee.

SUMMARY: Under the provisions of the Federal Advisory Committee Act of 1972, (5 U.S.C. Appendix, as amended), the Sunshine in the Government Act of 1976 (5 U.S.C. 552b, as amended), and 41 CFR 102-3.65, the Department of Defense gives notice that it is establishing the U.S. Nuclear Command and Control System Comprehensive Review Committee (hereafter referred to as the Committee).

The Committee is a discretionary federal advisory committee established under the authority of 41 CFR 102-3.50(d) to provide the Secretary of Defense, in his capacity as the Nuclear Command and control System Executive Agent, a comprehensive review of the U.S. Nuclear Command and Control System (NCCS). The Committee, considering the impact advanced technology, current and emerging threats, and evolving vulnerabilities have on the Nuclear Command and Control System, shall:

A. Examine the full range of NCCS policies, procedures, responsibilities, functions, capabilities, management and oversight necessary to:

1. Meet national and department/agency policy and guidance; and

2. Maintain the highest standards required for planning, directing, and controlling nuclear weapons, weapons systems, and associated operations.

B. Recommend changes to NCCS policies, responsibilities, functions, capabilities, management structures, and oversight mechanisms, as well as identifying other enhancements to NCCS elements (facilities, equipment, personnel, communications and procedures).

The Committee's review shall not address nuclear force size and structure, deterrence strategy, and arms control/threat reduction analyses.

The Committee shall be composed of a chairperson and no more than five distinguished members, who diverse expertise and background enable them to provide recommendations for improving the National Command and Control System to the NCCS Executive Agent.

The Committee members shall be appointed by the Secretary of Defense for the duration of the Committee, and their appointments will be renewed on an annual basis. Those members, who are not full-time Federal officers or employees, shall serve as Special Government Employees under the authority of 5 U.S.C. 3109. Committee members, with the exception of travel and per diem for official travel, shall serve without compensation. The Secretary of Defense shall select the Committee's Chairperson.

The Committee shall be authorized to establish subcommittees, as necessary and consistent with its mission, and these subcommittees or working groups shall operate under the provisions of the Federal Advisory Committee Act of 1972, the Sunshine in the Government Act of 1976, and other appropriate federal regulations.

Such subcommittees or workgroups shall not work independently of the chartered Committee, and shall report all their recommendations and advice to the Committee for full deliberation and discussion. Subcommittees or workgroups have no authority to make decisions on behalf of the chartered Committee nor can they report directly to the Department of Defense or any federal officers or employees who are not Committee Members.

SUPPLEMENTARY INFORMATION: The Committee shall meet at the call of the Committee's Designated Federal Officer, in consultation with the Committee's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the U.S. Nuclear Command and Control System Comprehensive Review Committee membership about the Committee's mission and functions. Written statements may be submitted at any time or in response to the stated agenda of planned meeting of the U.S. Nuclear Command and Control System Comprehensive Review Committee.

All written statements shall be submitted to the Designated Federal Officer for the U.S. Nuclear Command and Control System Comprehensive Review Committee, and this individual will ensure that the written statements are provided to the membership for their consideration. Contact information for the U.S. Nuclear Command and Control System Comprehensive Review Committee's Designated Federal Officer, once appointed, may be obtained from the GSA's FACA Database— https://www.fido.gov/facadatabase/public.asp.

The Designated Federal Officer, pursuant to 41 CFR 102-3.150, will announce planned meetings of the U.S. Nuclear Command and Control System Comprehensive Review Committee. The Designated Federal Officer, at that time, may provide additional guidance on the submission of written statements that are in response to the stated agenda for the planned meeting in question.

FOR FURTHER INFORMATION CONTACT: Contact Jim Freeman, Deputy Committee Management Officer for the Department of Defense, 703-601-2554, extension 128.

Dated: January 22, 2008.
L.M. Bynum,
Alternate OSD Federal Register Liaison Officer, Department of Defense.

[FR Doc. E8-1390 Filed 1-25-08; 8:45 am]

BILLING CODE 5001-06-P